DEPARTMENT OF COMMERCE

Foreign-Trade Zones Board

[S-11-2017]

Foreign-Trade Zone 163—Ponce, Puerto Rico; Application for Subzone; LT Autos, LLC; Amendment of Application

A request has been submitted to the Foreign-Trade Zones Board (the Board) by CODEZOL, C.D., to amend the application requesting subzone status for the facility of LT Autos, LLC, located in Ponce, Puerto Rico.

CODEZOL, C.D., is now requesting to include additional acreage located at 3215 Avenida Rafael Lugo González, Urb. Perla del Sur, Ponce. The proposed subzone will now consist of 4.12 acres (versus 1.505 acres as originally proposed).

Public comment is invited from interested parties. Submissions shall be addressed to the Board's Executive Secretary at: Foreign-Trade Zones Board, U.S. Department of Commerce, Room 21013, 1401 Constitution Ave. NW., Washington, DC 20230.

The closing period for their receipt is August 14, 2017. Rebuttal comments in response to material submitted during the foregoing period may be submitted during the subsequent 15-day period (to August 28, 2017).

For further information, contact Camille Evans at Camille.Evans@trade.gov or (202) 482-2350.

Dated: July 11, 2017.
Elizabeth Whiteman,
Acting Executive Secretary.

[FR Doc. 2017-14801 Filed 7-13-17; 8:45 am]

BILLING CODE 3510-DS-P